DEPARTMENT OF HOMELAND SECURITY

Coast Guard

33 CFR Part 117

[Docket No. USCG-2009-0218]

Drawbridge Operation Regulation; Sacramento River, Knights Landing, CA

AGENCY: Coast Guard, DHS.

ACTION: Notice of temporary deviation from regulations.

SUMMARY: The Commander, Eleventh Coast Guard District, has issued a temporary deviation from the regulation governing the operation of the Knights Landing Drawbridge across the Sacramento River, mile 90.1, at Knights Landing, CA. The deviation is necessary to allow the bridge owner, California Department of Transportation, to perform maintenance and replace the paint coating system for the drawbridge. This deviation allows the bridge to remain in the closed-to-navigation position during the deviation period.

DATES: This deviation is effective from 7 a.m. on June 1, 2009 to 7 a.m. on November 26, 2009.

ADDRESSES: Documents mentioned in this preamble as being available in the docket are part of docket USCG-2009-0346 and are available online by going to http://www.regulations.gov, selecting the Advanced Docket Search option on the right side of the screen, inserting USCG-2009-0218 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David H. Sulouff, Chief, Bridge Section, Eleventh Coast Guard District; telephone 510-437-3516, e-mail David.H.Sulouff@uscg.mil. If you have questions on viewing the docket, call Renee V. Wright, Program Manager, Docket Operations, telephone 202-366-9826.

SUPPLEMENTARY INFORMATION: California Department of Transportation requested a temporary change to the operation of the Knights Landing Drawbridge, mile 90.1, Sacramento River, at Knights Landing, CA. The drawbridge opens on signal if at least 12 hours' notice is given as required by 33 CFR 117.189(b). The deviation period would allow the drawspan to remain in the closed-to-navigation position from 7 a.m. on June 1, 2009 to 7 a.m. on November 26, 2009, to perform maintenance and replace the paint coating system on the drawbridge.

The Knights Landing Drawbridge navigation span provides a minimum vertical clearance of 3 feet above the 100-year floodplain. During the deviation period, the vertical clearance will be reduced by no more than 5 feet, due to an under-deck work platform and sealed containment the length of the bridge. Navigation on the waterway consists mainly of recreational vessels. During the past 7 years, in addition to the annual bridge openings for maintenance, the bridge drawspan was open one time for a sailboat.

No alternative routes are available. The bridge drawspan can open for an emergency if 72 hours' advance notice is given to the bridge owner. This temporary deviation has been coordinated with all affected waterway users. No objections to the proposed temporary deviation were raised.

Vessels that can transit the bridge, while in the closed-to-navigation position, may continue to do so at any time.

In accordance with 33 CFR 117.35(e), the drawbridge must return to its regular operating schedule immediately at the end of the designated time period. This deviation from the operating regulations is authorized under 33 CFR 117.35.

Dated: May 14, 2009.
P.F. Zukunft,
Rear Admiral, U.S. Coast Guard Commander, Eleventh Coast Guard District.

[FR Doc. E9-12599 Filed 5-29-09; 8:45 am]

BILLING CODE 4910-15-P